FEDERAL COMMUNICATIONS COMMISSION

Notice of Public Information Collection(s) Being Reviewed by the Federal Communications Commission

June 20, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 27, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-0589.

Title: FCC Remittance Advice and Continuation Sheet.

Form No.: FCC Forms 159 and 159-C.

Type of Review: Extension of a currently approved collection.

Respondents: Individuals or households, businesses or other for-profit, not-for-profit institutions, state, local or tribal government.

Number of Respondents: 635,738.

Estimated Time Per Response: 30 minutes or .50 hours.

Frequency of Response: On occasion and third party reporting requirement.

Total Annual Burden: 317,869 hours.

Total Annual Cost: N/A.

Needs and Uses: These forms are required for payment of regulatory fees, and for use when paying for multiple filings with a single payment instrument, or when paying by credit card. The form(s) require specific information to track payment history, and to facilitate the efficient and expeditious processing of collections by a lockbox bank. The forms have been revised to include the FCC Registration Number (FRN) which is used as an identifier for anyone who requests services/benefits from the Commission.

OMB Control No.: 3060-0728.

Title: Supplemental Information Requesting FCC Registration Number (FRN) for Debt Collection.

Form No.: N/A.

Type of Review: Extension of a currently approved collection.

Respondents: Individuals or households, businesses or other for-profit, not-for-profit institutions, state, local or tribal government.

Number of Respondents: 1,532,064.

Estimated Time Per Response: 1 minute or .017 hours.

Frequency of Response: On occasion reporting requirement.

Total Annual Burden: 26,045 hours.

Total Annual Cost: N/A.

Needs and Uses: The FCC Registration Number (FRN) and Taxpayer Identification Number (TIN) will be used by the FCC for the purpose of collecting and reporting on any delinquent amounts arising out of such person's relationship with the government. The respondents are anyone doing business with the Commission.

OMB Control No.: 3060-0917.

Title: CORES Registration Form.

Form No.: FCC Form 160.

Type of Review: Extension of a currently approved collection.

Respondents: Individuals or households, businesses or other for-profit, not-for-profit institutions, state, local or tribal government.

Number of Respondents: 500,000.

Estimated Time Per Response: 10 minutes or .166 hours.

Frequency of Response: One time reporting requirement.

Total Annual Burden: 83,000 hours.

Total Annual Cost: N/A.

Needs and Uses: The FRN will be used for a standard data repository for entity name, address, TIN, telephone number, e-mail, fax, contact representative, contact representative address, telephone, e-mail and fax. The Commission Registration System (CORES) will assign each entity doing business with the Commission a FCC Registration Number (FRN). The purpose of the FRN is for collecting and reporting on any delinquent amounts arising out of such person's relationship with the Commission. The respondents are anyone doing business with the FCC.

OMB Control No.: 3060-0918.

Title: CORES Update/Change Form.

Form No.: FCC Form 161.

Type of Review: Extension of a currently approved collection.

Respondents: Individuals or households, businesses or other for-profit, not-for-profit institutions, state, local or tribal government.

Number of Respondents: 250,000.

Estimated Time Per Response: 10 minutes or .166 hours.

Frequency of Response: On occasion reporting requirement.

Total Annual Burden: 41,500 hours.

Total Annual Cost: N/A.

Needs and Uses: This form will be used to update/change the entity name, address, telephone number, e-mail, fax, contact representative, contact representative address, telephone, e-mail, and fax in CORES.

OMB Control No.: 3060-0919.

Title: CORES Certification Form.

Form No.: FCC Form 162.

Type of Review: Extension of a currently approved collection.

Respondents: Individuals or households, businesses or other for-profit, not-for-profit institutions, state, local or tribal government.

Number of Respondents: 50,000.

Estimated Time Per Response: 5 minutes or .084 hours.

Frequency of Response: On occasion and one time reporting requirement.

Total Annual Burden: 4,200 hours.

Total Annual Cost: N/A.

Needs and Uses: This form will be used during the transition period to certify entities FCC Registration Number (FRN). The FRN will affect approximately 60 applications forms and will require the forms to change. During the transition period, the FCC Form 162 will be utilized until all forms have been updated. The cost involved in this change will be included on each individual form as they come up for revision or extension of a currently approved collection. The information will be used by the FCC for the purpose of collecting and reporting any delinquent amounts arising from such person's relationship with the Commission. The FCC Registration Number (FRN) is its Federal Communications Commission-issued FCC Registration Number. This number will be used by the Commission as a unique business account number for identification purposes only.

Federal Communications Commission.
Magalie Roman Salas,
Secretary.

[FR Doc. 00-16184 Filed 6-26-00; 8:45 am]

BILLING CODE 6712-01-P